POSTAL SERVICE

Board of Governors' Sunshine Act Meeting; Notification of Item Added to Meeting Agenda

Date of Meeting: October 2, 2003.

Status: Closed.

Previous announcement: 68 FR 55665, September 26, 2003.

Addition: Office of Inspector General Fiscal Year 2004 Budget. At its meeting on October 2, 2003, the Board of Governors of the United States Postal Service voted unanimously to add this item to the agenda of its closed session and that no earlier announcement was possible. The General Counsel of the United States Postal Service certified that in her opinion discussion of this item could be properly closed to public observation.

FOR FURTHER INFORMATION CONTACT: William T. Johnstone, Secretary of the Board, U.S. Postal Service, 475 L'Enfant Plaza, SW., Washington, DC 20260-1000.

William T. Johnstone,
Secretary.

[FR Doc. 03-25859 Filed 10-7-03; 4:31 pm]

BILLING CODE 7710-12-M